EXPORT-IMPORT BANK

Intent to Conduct a Detailed Economic Impact Analysis

AGENCY: Export-Import Bank.

ACTION: Notice.

SUMMARY: Pursuant to the Charter of the Export-Import Bank of the United States, this notice is to inform the public that the Export-Import Bank of the United States has received an application for a $233.8 million comprehensive loan guarantee to support the export of approximately $351 million worth of hydrotreatment and steam methane reforming equipment to Paraguay. The U.S. exports will enable the Paraguayan company to produce up to 16,092 barrels per day of renewable diesel (also referred to as Hydrotreated Vegetable Oil or HVO) or up to 13,162 barrels per day of renewable jet fuel (also referred to as Synthesized Paraffinic Kerosene or SPK). New production will be sold in the United States and in Western Europe.

DATES: Comments are due 14 days from publication in the Federal Register.

ADDRESSES: Interested parties may submit comments on this transaction electronically on www.regulations.gov, or by email to economic.impact@exim.gov.

Scott Condren,
Policy Analysis Division.

[FR Doc. 2020-21472 Filed 9-28-20; 8:45 am]

BILLING CODE 6690-01-P